DEPARTMENT OF LABOR

Office of the Secretary

Submission for OMB Review: Comment Request

June 1, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including, among other things, a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Occupational Safety and Health Administration (OSHA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Reports of Injuries to Employees Operating Mechanical Power Presses (29 CFR 1910.217(g)).

OMB Control Number: 1218-0070.

Affected Public: Business or other for-profits.

Estimated Number of Respondents: 38.

Estimated Total Annual Burden Hours: 13.

Estimated Total Annual Costs Burden (excludes hourly wage costs): $0.

Description: In the event an employee is injured while operating a mechanical power press, 29 CFR 1910.217(g) requires an employer to provide information to OSHA regarding the accident. This information includes the employer's and employee's name, the type of clutch, the type of safeguard(s) used, the cause of the accident, the means to actuate the press stroke, and the number of operators involved. For additional information, see the related 60-day preclearance notice published in the Federal Register at Vol. 74 FR 13266 on March 26, 2009. PRA documentation prepared in association with the preclearance notice is available on http://www.regulations.gov under docket number OSHA-2009-0006.

Agency: Occupational Safety and Health Administration.

Type of Review: Extension without change of a previously approved collection.

Title of Collection: Temporary Labor Camps (29 CFR 1910.142).

OMB Control Number: 1218-0096.

Affected Public: Business or other for-profits.

Estimated Number of Respondents: 833.

Estimated Total Annual Burden Hours: 67.

Estimated Total Annual Costs Burden (excludes hourly wage costs): $0.

Description: The information is required to safeguard the health of temporary labor camp residents. The information is used to limit the incidence of communicable disease among temporary labor camp residents. For additional information, see the related 60-day preclearance notice published in the Federal Register at Vol. 74 FR 11975 on March 20, 2009. PRA documentation prepared in association with the preclearance notice is available on http://www.regulations.gov under docket number OSHA-2009-0003.

Agency: Occupational Safety and Health Administration.

Type of Review: Extension without change of a previously approved collection.

Title of Collection: 1,3-Butadiene (29 CFR 1910.1051).

OMB Control Number: 1218-0170.

Affected Public: Business or other for-profits.

Estimated Number of Respondents: 115.

Estimated Total Annual Burden Hours: 955.

Estimated Total Annual Costs Burden (excludes hourly wage costs): $95,288.

Description: The purpose of this standard and its information collection requirements are to provide protection for employees from the adverse health effects associated with occupational exposure to 1,3-Butadiene. For additional information, see the related 60-day preclearance notice published in the Federal Register at Vol. 74 FR 11974 on March 20, 2009. PRA documentation prepared in association with the preclearance notice is available on http://www.regulations.gov under docket number OSHA-2009-0004.

Darrin A. King,
Departmental Clearance Officer.

[FR Doc. E9-13155 Filed 6-4-09; 8:45 am]

BILLING CODE 4510-26-P